DEPARTMENT OF THE INTERIOR

Bureau of Indian Affairs

[189A2100DD/AAKC001030/A0A501010.999900]

Notice of Availability of a Draft Environmental Impact Statement for the Ho-Chunk Nation Fee-to-Trust and Casino Project, City of Beloit, Rock County, Wisconsin

AGENCY: Bureau of Indian Affairs, Interior.

ACTION: Notice of availability.

SUMMARY: This notice advises the public that the Bureau of Indian Affairs (BIA) as lead agency, with the City of Beloit, Wisconsin Department of Transportation, Ho-Chunk Nation (Nation), and the U.S. Environmental Protection Agency (EPA) serving as cooperating agencies, intends to file a Draft Environmental Impact Statement (DEIS) with the EPA in connection with the Nation's application for acquisition in trust by the United States of approximately 33 acres for gaming and other purposes to be located in the City of Beloit, Rock County, Wisconsin. This notice also announces that the DEIS is now available for public review and that a public hearing will be held to receive comments on the DEIS.

DATES: Written comments on the DEIS must arrive within 45 days after EPA publishes its Notice of Availability in the Federal Register. The date and location of the public hearing on the DEIS will be announced at least 15 days in advance through a notice to be published in local newspapers (The Daily News, The Janesville Gazette, and The Rockford Register Star) and online at: http://www.ho-chunkbeloiteis.com.

ADDRESSES: You may mail or hand-deliver written comments to the Midwest Regional Director, Bureau of Indian Affairs, Midwest Region, Norman Pointe II, Building, 5600 West American Boulevard, Suite 500, Bloomington, MN 55347. Please include your name, return address, and the caption: “DEIS Comments, Ho-Chunk Nation Fee-to-Trust and Casino Project,” on the first page of your written comments. See the SUPPLEMENTARY INFORMATION section of this notice for addresses where the DEIS is available for review.

FOR FURTHER INFORMATION CONTACT: Mr. Timothy Guyah, Archaeologist, Bureau of Indian Affairs, Midwest Region, Norman Pointe II Building, 5600 West American Boulevard, Suite 500, Bloomington, MN 55347; phone: (612) 725-4512; email: timothy.guyah@bia.gov. Information is also available online at: http://www.ho-chunkbeloiteis.com.

SUPPLEMENTARY INFORMATION: Public review of the DEIS is part of the administrative process for the evaluation of the Tribe's application for the acquisition in trust of approximately 33 acres in the City of Beloit, Rock County, Wisconsin. The Nation proposes to develop a casino, hotel, parking, and supporting facilities. A Notice of Intent to prepare an EIS was published in the Federal Register on November 26, 2012, and in The Daily News, The Janesville Gazette, and The Rockford Register Star. The BIA held a public scoping meeting for the proposed project on December 13, 2012, at Aldrich Middle School, 1859 Northgate Drive, Beloit, Wisconsin 53511.

Background: The proposed project consists of the following components: (1) The Department's transfer of the approximately 33-acre fee property into trust status; (2) issuance of a determination by the Secretary of the Interior pursuant to the Indian Gaming Regulatory Act 25 U.S.C. 2701 et seq.; and (3) the Nation's proposed development of the trust parcel and its adjacent fee land, totaling approximately 73.5 acres. The proposed casino-hotel resort would include a hotel, convention center, outdoor amphitheater, several restaurant facilities, retail buildings, and parking facilities. Access to the project site would be provided via three driveways; one along Willowbrook Road and two along Colley Road.

The following alternatives are considered in the DEIS: (1) Proposed Project; (2) Reduced Casino and Commercial Development; (3) Retail Development; and (4) No Action/No Development. Environmental issues addressed in the DEIS include geology and soils, water resources, air quality, biological resources, cultural and paleontological resources, socio-economic conditions (including environmental justice), transportation and circulation, land use, public services, noise, hazardous materials, aesthetics, cumulative effects, and indirect and growth-inducing effects.

Locations where the DEIS is available for review: The DEIS will be available for review at the Beloit Public Library located at 605 Eclipse Blvd., Beloit, Wisconsin 53511, and online at http://www.ho-chunkbeloiteis.com. To obtain a compact disk copy of the DEIS, please provide your name and address in writing to Timothy Guyah, Bureau of Indian Affairs, Midwest Regional Office. Contact information is listed in the FOR FURTHER INFORMATION CONTACT section of this notice. Individual paper copies of the DEIS will be provided only upon payment of applicable printing expenses by the requestor for the number of copies requested.

Public comment availability: Comments, including names and addresses of respondents, will be available for public review at the BIA address shown in the ADDRESSES section, during regular business hours, 8 a.m. to 4:30 p.m., Monday through Friday, except holidays. Before including your address, phone number, email address, or other personal identifying information in your comment, you should be aware that your entire comment—including your personal identifying information—may be made publicly available at any time. While you can ask in your comment that your personal identifying information be withheld from public review, the BIA cannot guarantee that this will occur.

Authority: This notice is published pursuant to Sec. 1503.1 of the Council of Environmental Quality Regulations (40 CFR parts 1500 through 1508) and Sec. 46.305 of the Department of the Interior Regulations (43 CFR part 46), implementing the procedural requirements of the NEPA of l969, as amended (42 U.S.C. 4371, et seq.), and is in the exercise of authority delegated to the Assistant Secretary—Indian Affairs by 209 DM 8.

Dated: November 6, 2018.
Tara Sweeney,
Assistant Secretary—Indian Affairs.

[FR Doc. 2018-24598 Filed 11-8-18; 8:45 am]

BILLING CODE 4337-15-P